DEPARTMENT OF JUSTICE

Drug Enforcement Administration

James W. Phillips, M.D. Revocation of Registration

On June 25, 2003, the Deputy Assistant Administrator, Office of Diversion Control, Drug Enforcement Administration (DEA), issued an Order to Show Cause to James W. Phillips, M.D. (Dr. Phillips) of Jacksonville, Florida, notifying him of an opportunity to show cause as to why DEA should not revoke his DEA Certificate of Registration BP1163396 under 21 U.S.C. 824(a) and deny any pending applications for renewal or modification of that registration. As a basis for revocation, the Order to Show Cause alleged that Dr. Phillips is not currently authorized to practice medicine or handle controlled substances in Florida, his state of registration and practice. The order also notified Dr. Phillips that should no request for a hearing be filed within 30 days, his hearing right would be deemed waived.

The Order to Show Cause was sent by certified mail to Dr. Phillips at his address of record at 404 Cancun Court, Jacksonville, Florida. According to the return receipt, on or around July 8, 2003, the Order was accepted on Dr. Phillips' behalf. The return receipt also indicated that Dr. Phillips' new address was 760 Tee Time Lane, Jacksonville, Florida. DEA has not received a request for hearing or any other reply from Dr. Phillips or anyone purporting to represent him in this matter.

Therefore, the Acting Deputy Administrator, finding that (1) 30 days have passed since the receipt of the Order to Show Cause, and (2) no request for a hearing having been received, concludes that Dr. Phillips is deemed to have waived his hearing right. See Samuel S. Jackson, D.D.S., 67 FR 65145 (2002); David W. Linder, 67 FR 12579 (2002). After considering material from the investigative file, the Acting Deputy Administrator now enters her final order without a hearing pursuant to 21 CFR 1301.43(d) and (e) and 1301.46.

The Acting Deputy Administrator finds that Dr. Phillips possesses DEA Certificate of Registration BP1163396, which expires on March 31, 2005. The Acting Deputy Administrator further finds that the State of Florida Department of Public Health filed an Administrative Complaint with the State of Florida Medical Board (the Board) against Dr. Phillips alleging inter alia, that he engaged in malpractice with three plastic surgery patients, failed to submit necessary paperwork with the insurance company of a fourth patient, filed for bankruptcy and closed his office without notifying his patients or the Board, and that he failed to respond to his patients' requests for their medical records.

On December 18, 2002, Dr. Phillips defaulted his right to a hearing on the Administrative Complaint and the Board issued its Final Order sustaining the accusations and revoking Dr. Phillips' license to practice medicine in the State of Florida, effective as of December 23, 2002. The investigative file contains no evidence that the Board's Final Order has been stayed or that Dr. Phillips' medical license has been reinstated. Therefore, the Acting Deputy Administrator finds that Dr. Phillips is not currently authorized to practice medicine in the State of Florida. As a result, it is reasonable to infer he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 Fr 52936 (2001); Dominick A. Ricci, M.D., 58 FR 51104 (1993); Bobby Watts, M.D., 53 FR 11919 (1988).

Here, it is clear that Dr. Phillips' medical license has been revoked and he is not licensed to handle controlled substances in Florida, where he is registered with DEA. Therefore, he is not entitled to a DEA registration in that state.

Accordingly, the Acting Deputy Administrator of the Drug Enforcement Administration, pursuant to the authority vested in her by 21 U.S.C. 823 and 824 and 28 CFR 0.100(b) and 0.104, hereby orders that DEA Certificate of Registration BP1163396, issued to John W. Phillips, M.D., be, and it hereby is, revoked. The Acting Deputy Administrator further orders that any pending applications for renewal of such registration be, and they hereby are, denied. This order is effective April 12, 2004.

Dated: February 20, 2004.
Michele M. Leonhart,
Acting Deputy Administrator.

[FR Doc. 04-5481 Filed 3-10-04; 8:45 am]

BILLING CODE 4410-09-M